DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug and Alcohol Services Information System (DASIS)—(OMB No. 0930-0106)—Revision

The request for OMB approval will be a supplement to the full DASIS request approved on November 8, 2005, and will be submitted in accordance with the Terms of Clearance in that 2005 OMB Notice of Action. The supplemental submission will request extension and revision of DASIS, including approval to revise and conduct the National Survey of Substance Abuse Treatment Services (N-SSATS) following a pretest of the 2007 questionnaire changes. The request will revise only the N-SSATS-related portion of the DASIS data collection. There will be no changes to the other DASIS components.

The DASIS consists of three related data systems: The Inventory of Substance Abuse Treatment Services (I-SATS ); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment.

The request for OMB approval will include changes to the N-SSATS survey and the Mini-N-SSATS. The Mini-N-SSATS is a procedure for collecting services data from newly identified facilities between main cycles of the N-SSATS survey and will be used to improve the listing of treatment facilities in the on-line treatment facility Locator. The request will include the following changes to the 2007 N-SSATS questionnaire, as refined by the pretest findings: modification of the treatment categories to better reflect the practices and terminology currently used in the treatment field; modification of the detoxification question, including the addition of a follow-up question on whether the facility uses drugs in detoxification and for which substances; the addition of questions on treatment approaches and clinical practices; the addition of a question on quality control procedures used by the facility; and, the addition of a question on whether the facility accepts ATR vouchers and how many annual admissions were funded by ATR vouchers. The request will also include changes to the Mini-N-SSATS questionnaire to add a question on treatment approaches, to modify the treatment categories to reflect more current practices and terminology, and to ask whether the facility accepts ATR vouchers. The remaining sections of the N-SSATS questionnaires will remain unchanged except for minor modifications to wording. The request for OMB approval will include a change in burden hours to include the full three years of N-SSATS and mini-N-SSATS data collection, now that the N-SSATS pretest has been completed. Also, the burden hours for the pretest are being dropped.

No significant changes are expected in the other DASIS activities.

The estimated annual burden for the DASIS activities is as follows:

Note —only the estimates for N-SSATS-related activities are changing.

Type of respondent and activity | Number of respondents | Responses per respondent | Hours per response | Total burden hours
States:
TEDS Admission data | 52 | 4 | 6 | 1,248
TEDS Discharge data | 40 | 4 | 8 | 1,280
TEDS Discharge crosswalks | 5 | 1 | 10 | 50
I-SATS Update | 56 | 67 | .08 | 300
State Subtotal¹ | 56 |  |  | 2,878
Facilities:
I-SATS update | 100 | 1 | .08 | 8
N-SSATS questionnaire | 17,000 | 1 | .67 | 11,390
Augmentation screener | 1,000 | 1 | .08 | 80
Mini-N-SSATS | 700 | 1 | .42 | 294
Facility Subtotal | 19,000 |  |  | 11,772
Total | 19,056 |  |  | 14,650
¹ The burden for the listed State activities is unchanged from the currently approved level. Only the burden for N-SSATS and Mini-N-SSATS is changing, and the burden for the N-SSATS pretest, which is now complete, has been removed.

Send comments to Summer King, SAMHSA Reports Clearance Officer, Room 7-1044, One Choke Cherry Road, Rockville, MD 20857. Written comments should be received within 60 days of this notice.

Dated: June 1, 2006.
Anna Marsh,
Director, Office of Program Services.

[FR Doc. E6-8989 Filed 6-8-06; 8:45 am]

BILLING CODE 4162-20-P